DEPARTMENT OF HOMELAND SECURITY

Transportation Security Administration

Privacy Act of 1974: Revision to an Existing System of Records; Transportation Security Threat Assessment System (T-STAS)

AGENCY: Transportation Security Administration (TSA), DHS.

ACTION: Notice to alter an existing system of records.

SUMMARY: TSA is altering an existing system of records under the Privacy Act of 1974. The revisions affect the Transportation Security Threat Assessment System (T-STAS), DHS/TSA 002, and will update the “Categories of records in the system” section.

DATES: This action will be effective upon publication.

FOR FURTHER INFORMATION CONTACT: Lisa S. Dean, Privacy Officer, (571) 227-3947.

SUPPLEMENTARY INFORMATION: The Transportation Security Administration (TSA) is modifying the “Categories of records in the system” section of T-STAS, DHS/TSA 002 system of records, to include a new category of information in the system: military service history. This category includes, but is not limited to, what branch of the military an individual served in, their discharge date, and discharge type. T-STAS is a system of records that facilitates the performance of threat assessments and employment investigations on individuals who require special access to the transportation system. The military service history is necessary to allow TSA, during the course of a criminal history records check, to identify any criminal convictions that may have occurred while an individual served in the U.S. Military. T-STAS was most recently published in full on September 24, 2004. See 69 FR 57348, 57349.

Accordingly, TSA amends the “Category of records in the system” portion of T-STAS by revising category “s” and adding a new category “t”, at the end of the list of records to read as follows:

DHS/TSA 002

System name:

Transportation Security Threat Assessment System (T-STAS).

* * * * *

Categories of records in the system:

* * * * *

(s) The individual's level of access at an airport; and (t) the individual's military service history.

* * * * *

Issued in Arlington, Virginia, on December 3, 2004.
Lisa S. Dean,
Privacy Officer.

[FR Doc. 04-27098 Filed 12-9-04; 8:45 am]

BILLING CODE 4910-62-P